DEPARTMENT OF THE TREASURY

Submission for OMB Review; Comment Request

December 20, 2016.

The Department of the Treasury will submit the following information collection requests to the Office of Management and Budget (OMB) for review and clearance in accordance with the Paperwork Reduction Act of 1995, Public Law 104-13, on or after the date of publication of this notice.

DATES: Comments should be received on or before January 23, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Fiscal Service (FS)

OMB Control Number: 1530-XXXX.

Type of Review: New collection (Request for a new OMB Control Number).

Title: TreasuryDirect Customer Feedback.

Abstract: This is a generic clearance to conduct various surveys, focus groups, and interviews among current and prospective TreasuryDirect customers. The aforementioned collections will assess the effectiveness and efficiency of existing products and services; obtain knowledge about the potential public audiences attracted to new products when introduced; and to measure awareness and appeal of efforts to reach audiences and customers.

Affected Public: Individuals or Households.

Estimated Total Annual Burden Hours: 1,250.

Bob Faber,
Acting Treasury PRA Clearance Officer.

[FR Doc. 2016-31030 Filed 12-22-16; 8:45 am]

BILLING CODE 4810-AS-P